DEPARTMENT OF JUSTICE

Office of Juvenile Justice and Delinquency Prevention

[OJP (OJJDP) Docket No. 1544]

Office of Juvenile Justice and Delinquency Prevention Proposed Plan for Fiscal Year 2011

AGENCY: Office of Juvenile Justice and Delinquency Prevention, Office of Justice Programs, Department of Justice.

ACTION: Notice of proposed plan for Fiscal Year 2011.

SUMMARY: The Office of Juvenile Justice and Delinquency Prevention is publishing this notice of its Proposed Plan for fiscal year (FY) 2011.

DATES: Comments must be received on or before February 28, 2011.

ADDRESSES: You may submit comments electronically or view an electronic version of this proposed rule at http://www.regulations.gov. You may also mail comments to Jeff Slowikowski, Acting Administrator, Office of Juvenile Justice and Delinquency Prevention, 810 Seventh Street, NW., Washington, DC 20531. To ensure proper handling, clearly reference “Proposed OJJDP Program Plan Comments” or “OJP Docket No. 1544” in the lower left hand corner of the envelope and on your correspondence.

FOR FURTHER INFORMATION CONTACT: The Office of Juvenile Justice and Delinquency Prevention at 202-307-5911. [This is not a toll-free number.]

SUPPLEMENTARY INFORMATION:

I. Posting of Public Comments

Please note that all comments received are considered part of the public record and made available for public inspection online at http://www.regulations.gov. Such information includes personal identifying information (such as name and address) that the commenter voluntarily submits.

If you wish to submit personal identifying information (such as your name, address, etc.) as part of your comment, but do not wish for it to be posted online, you must include the phrase “PERSONAL IDENTIFYING INFORMATION” in the first paragraph of your comment. You also must locate all the personal identifying information you do not wish to be posted online in the first paragraph of your comment and identify what information you would like redacted.

If you wish to submit confidential business information as part of your comment but do not wish for it to be posted online, you must include the phrase “CONFIDENTIAL BUSINESS INFORMATION” in the first paragraph of your comment. You also must prominently identify confidential business information to be redacted within the comment. If a comment has so much confidential business information that it cannot be effectively redacted, all or part of that comment may not be posted on http://www.regulations.gov.

Personal identifying information and confidential business information identified and located as set forth above will be placed in the agency's public docket file, but not posted online. If you wish to inspect the agency's public docket file in person by appointment, please see the “For Further Information Contact” paragraph.

II. Preamble

The Office of Juvenile Justice and Delinquency Prevention (OJJDP) is a component of the Office of Justice Programs in the U.S. Department of Justice. Section 204 (b)(5)(A) of the Juvenile Justice and Delinquency Prevention Act of 1974, as amended, 42 U.S.C. 5601 et seq. (JJDP Act) directs the OJJDP Administrator to publish for public comment a Proposed Plan describing the program activities that OJJDP proposes to carry out during FY 2011 under Parts D and E of Title II of the JJDP Act, codified at 42 U.S.C. 5661 et seq. and 5665 et seq. Because the Office's discretionary activities extend beyond Parts D and E, OJJDP is seeking comments on a more comprehensive listing of the Office's proposed programs. Taking into consideration comments received on this Proposed Plan, the Administrator will develop and publish in the Federal Register OJJDP's Final Plan describing the particular program activities that OJJDP intends to fund during FY 2011.

OJJDP acknowledges that at this time its FY 2011 appropriation is not yet final. Depending on the final appropriation, OJJDP may alter how its programs are structured and modify this Proposed Plan when it is published in final form following the public comment period.

OJJDP posts on its Web site (http://www.ojjdp.gov) solicitations of grant or cooperative agreement applications for competitive programs to be funded under the Final Plan. OJJDP notifies the public that these solicitations have been posted through issuance of JUVJUSTs (listserv) announcements and other methods of electronic notification. No proposals, concept papers, or other forms of application should be submitted at this time.

Department Priorities: OJJDP has structured this plan to reflect the high priority that the Administration and the Department have placed on addressing youth violence and victimization and improving protections for youth involved with the juvenile justice system. The proposals presented here represent OJJDP's current thinking on how to advance the Department's priorities during this fiscal year. These proposals also incorporate feedback from OJJDP's ongoing outreach to the field seeking ideas on program areas and the most promising approaches for those types of areas. The first section of this proposed plan contains programs that address priority areas that the Attorney General has identified.

OJJDP's Purpose: Congress established OJJDP through the JJDP Act of 1974 to help states and communities prevent and control delinquency and strengthen their juvenile justice systems and to coordinate and administer national policy in this area.

Although states, American Indian/Alaska Native (AI/AN) communities,¹ and other localities retain primary responsibility for administering juvenile justice and preventing juvenile delinquency, OJJDP supports and supplements the efforts of public and private organizations at all levels through program funding via formula, block, and discretionary grants; administration of Congressional earmark programs; research; training and technical assistance; funding of demonstration projects; and dissemination of information. OJJDP also helps administer Federal policy related to juvenile justice and delinquency prevention through its leadership role in the Coordinating Council on Juvenile Justice and Delinquency Prevention.

¹ In this plan, the terms “tribes” and “tribal jurisdictions” refer to both American Indian and Alaska Native communities.

OJJDP's Vision: OJJDP strives to be the recognized authority and national leader dedicated to the future, safety, and well-being of children and youth in, or at risk of entering, the juvenile justice system.

OJJDP's Mission: OJJDP provides national leadership, coordination, and resources to prevent and respond to juvenile delinquency and victimization by supporting states, tribal jurisdictions, and communities in their efforts to develop and implement effective coordinated prevention and intervention programs and improve the juvenile justice system so that it protects public safety, holds offenders accountable, and provides treatment and rehabilitation services tailored to the needs of juveniles and their families.

Guiding Principles for OJJDP's National Leadership: OJJDP provides targeted funding, sponsors research and demonstration programs, offers training and technical assistance, disseminates information, and uses technology to enhance programs and collaboration in exercising its national leadership. In all of these efforts, the following four principles guide OJJDP:

1. Empower communities and engage youth and families.

2. Promote evidence-based practices.

3. Require accountability.

4. Enhance collaboration.

1. Empower communities and engage youth and families. Families and communities play an essential role in any effort to prevent delinquency and protect children from victimization. As Attorney General Holder has said: “family connections improve public safety, and responsible and engaged parenting improve public safety.” This is especially true when fathers are involved and play a central role in their children's development. Communities must reach beyond the formal systems of justice, social services, and law enforcement to tap into the wisdom and energies of many others—including business leaders, the media, neighborhood associations, block leaders, elected officials, tribal leaders, clergy, faith-based organizations, and especially families and young people themselves—who have a stake in helping local youth become productive, law-abiding citizens. In particular, OJJDP must engage families and youth in developing solutions to delinquency and victimization. Their strengths, experiences, and aspirations provide an important perspective in developing those solutions.

To be effective, collaboration among community stakeholders must be grounded in up-to-date information. With Federal assistance that OJJDP provides, community members can partner to gather data, assess local conditions, and make decisions to ensure resources are targeted for maximum impact.

2. Promote evidence-based practices. To make the best use of public resources, OJJDP must identify what works in delinquency prevention and juvenile justice. OJJDP is the only Federal agency with a specific mission to develop and disseminate knowledge about what works in this field. Drawing on this knowledge, OJJDP helps communities replicate proven programs and improve their existing programs. OJJDP helps communities match program models to their specific needs and supports interventions that respond to the developmental, cultural, and gender needs of the youth and families they will serve.

3. Require accountability. OJJDP requires the national, state, tribal, and local entities whose programs OJJDP supports to explain how they use program resources, determine and report on how effective the programs are in alleviating the problems they are intended to address, and propose plans for remediation of performance that does not meet standards. OJJDP has established mandatory performance measures for all its programs and reports on those measures to the Office of Management and Budget. OJJDP requires its grantees and applicants to report on these performance measures, set up systems to gather the data necessary to monitor those performance measures, and use this information to continuously assess progress and fine-tune the programs.

4. Enhance collaboration. Juvenile justice agencies and programs are just one part of a larger set of systems that encompasses the many agencies and programs that work with at-risk youth and their families. For delinquency prevention and child protection efforts to be effective, they must be coordinated at the local, tribal, State, and Federal levels with law enforcement, social services, child welfare, public health, mental health, school, and other systems that address family strengthening and youth development. One way to achieve this coordination is to establish broad-based coalitions to create consensus on service priorities and to build support for a coordinated approach. With this consensus as a foundation, participating agencies and departments can then build mechanisms to link service providers at the program level—including procedures for sharing information across systems.

OJJDP took its guidance in the development of this proposed plan from the priorities that the Attorney General has set forth for the Department. At the same time, OJJDP drew upon its Strategic Plan for 2009-2011. The four primary goals at the heart of OJJDP's Strategic Plan echo the Attorney General's priorities. Those goals are: Prevent and respond to delinquency, strengthen the juvenile justice system, prevent and reduce the victimization of children, and create safer neighborhoods by preventing and reducing youth violence. OJJDP is currently updating its Strategic Plan.

III. OJJDP Proposed Program Plan for Fiscal Year 2011

Each year OJJDP receives formula and block grant funding as well as discretionary funds for certain program areas. Based on the 2010 appropriation and the 2011 presidential budget, OJJDP offers the following 2011 Proposed Plan for consideration and comment. Programs are organized according to the Department priorities and traditional OJJDP focus areas.

Department and OJJDP Priorities

OJJDP administers grant programs authorized by the JJDP Act of 1974, as amended. OJJDP also administers programs under other legislative authority and through partnerships with other Federal agencies. In keeping with OJJDP's mission, these programs are designed to help strengthen the juvenile justice system, prevent juvenile delinquency and violence, and protect and safeguard the nation's youth. The Obama Administration and the Attorney General have identified children's exposure to violence, gang violence, and community violence as focus areas for the Department.

The Attorney General's Initiative on Children Exposed to Violence Program: Phase II

On September 23, 2010, Attorney General Holder launched Defending Childhood, an initiative that harnesses resources from across the Department of Justice to prevent children's exposure to violence; mitigate the negative impact of that exposure; and develop knowledge and spread awareness about the issue. The Attorney General's Initiative on Children Exposed to Violence is the programmatic expression of Defending Childhood. Following an initial planning year, DOJ proposes to award supplemental funds to the original eight sites to implement activities to prevent and reduce the impact of children's exposure to violence in their homes, schools, and communities. Subsequently, DOJ will select four communities to receive substantial support through an invitation-only competition. The remaining four sites will receive supplemental funding for specific program services under DOJ guidelines. OJJDP will conduct process and outcome evaluations of the initiative.

Community-Based Violence Prevention Program

OJJDP proposes to fund eight new sites to replicate intervention programs, such as the Boston Gun Project, the Richmond Comprehensive Homicide Initiative, and the Chicago CeaseFire model, to reduce violence in targeted communities. Applicants must focus their proposed programs on the high-risk activities and behaviors of a small number of carefully selected members of the community who are likely to be involved in gun violence in the immediate future. The intervention with this target population should include improved coordination of existing resources and activities that support multiple, complementary anti-violence strategies. An additional evaluation grant (continuation) will be made to ensure data from the new sites are included in the national evaluation.

Comprehensive Community Anti-Gang Strategies and Programs

OJJDP proposes to fund community partnerships of Federal, State, and local entities implementing primary prevention, secondary prevention, gang intervention, and targeted gang enforcement anti-gang programs. Awards will support coordination of community-based anti-gang initiatives that involve law enforcement, schools, social services, faith- and community-based organizations, and businesses as essential partners. Successful applicants will demonstrate that they are implementing community-based anti-gang activities consistent with OJJDP's Comprehensive Gang Model.

Continuations

In FY 2011, OJJDP will continue to support:

• Safe Start Promising Approaches Project

• Children's Exposure to Violence Fellowship

• National Survey of Children Exposed to Violence

• Youth Gang Prevention and Intervention Program

Tribal Youth

Since 1998, Congress has appropriated funding to support programs addressing tribal youth. OJJDP administers most of its tribal initiatives through the Tribal Youth Program (TYP). These programs fund initiatives, training and technical assistance, and research and evaluation projects to improve juvenile justice systems and delinquency prevention efforts among federally recognized American Indian and Alaska Native (AI/AN) tribes. Since 1999, 10 percent of the TYP appropriation has been used for research and evaluation activities and 2 percent has been used for training and technical assistance.

U.S. Department of Justice Coordinated Tribal Assistance

In response to concerns that tribes voiced during recent public listening sessions, DOJ developed the Coordinated Tribal Assistance Solicitation (CTAS) that combines all of its existing competitive tribal solicitations into one document. The CTAS solicitation is posted on the Office of Justice Programs (OJP) Web site (http://www.ojp.gov). The following are the OJJDP proposed programs within the CTAS:

• Tribal Youth Program supports and enhances tribal efforts to prevent and control delinquency and improve their juvenile justice systems. Grantees develop and implement delinquency prevention programs, interventions for court-involved youth, improvements to their juvenile justice systems, alcohol and substance abuse prevention programs, and emotional/behavioral program services.

• Tribal Juvenile Accountability Discretionary Grants (TJADG) Program receives a separate allocation through the Juvenile Accountability Block Grants Program to provide funds to federally recognized tribes to combat delinquency and improve the quality of life in AI/AN communities. OJJDP awards Tribal JADG program grants to AI/AN communities to promote accountability-based reform and strengthen the tribal juvenile justice system by addressing 1 or more of the 17 tribal JADG program purpose areas. OJJDP requires applicants to submit a plan for evaluating their projects.

• OJJDP intends to support Tribal Youth Demonstration Programs that address gaps in programs and services for tribal youth. Services include risk and needs assessments, educational and vocational programs, mental health services, substance abuse programs, family strengthening, recreational activities, and extended reentry aftercare to help offenders successfully reintegrate into the tribal community.

Empowering Alaska Native Youth Initiative

OJJDP intends to support Alaska Native villages as they implement programs and services to prevent and control delinquency and improve their juvenile justice systems. The villages will develop and implement delinquency prevention programs, interventions for court-involved youth, improvements to their juvenile justice systems, alcohol and substance abuse prevention programs, and emotional/behavioral program services.

Technical Assistance for Tribal Law Enforcement To Reduce Children's Exploitation Crimes

OJJDP intends to support programs that decrease children's risk of exploitation and victimization in tribal communities and expand the goals and activities of these programs to protect children. This initiative will support the development and implementation of targeted technical assistance to enhance the ability of tribal communities to respond to child exploitation, including runaway children and victims of child trafficking or commercial sexual exploitation.

Tribal Youth Gang Assessment and Demonstration Program

OJJDP proposes to fund an assessment of the gang problem in tribal communities that will inform the development of a tribal youth gang prevention and intervention demonstration program. The last attempt to accurately depict such youth gang issues was conducted nearly 10 years ago, and OJJDP feels that the issues facing tribal communities have changed significantly since that time.

Tribal Youth Field-Initiated Research and Evaluation Programs

OJJDP proposes to fund field-initiated studies to further what is understood regarding the experiences, strengths, and needs of tribal youth, their families, and communities and what works to reduce their risks for delinquency and victimization. Accordingly, OJJDP will seek applications addressing a broad range of research topics, such as the identification of risk factors for delinquent behavior and substance abuse, pathways to delinquency and desistance, and victimization experiences among tribal youth.

Tribal Youth National Mentoring Program

OJJDP proposes to support the development, maturation, and expansion of mentoring services for tribal youth on tribal reservations that are underserved due to location, shortage of mentors, emotional or behavioral challenges of the targeted population, or other situations. Grantees will assess tribal needs, develop plans, and implement and monitor mentoring activities in multiple states that have tribal reservations.

Continuation

In FY 2011, OJJDP will continue to support:

• Child Protection Programs in Tribal Communities

Juvenile Justice System Reform

OJJDP recognizes the need for states to have effective and efficient juvenile justice systems and for the Office to assist them in identifying and implementing promising and evidence-based practices. Reforming juvenile justice and improving systems across the country is a priority for OJJDP. Components of the juvenile justice system that OJJDP will focus on in 2011 include detention and corrections reform, and youth transitioning back to their communities from a detention or corrections facility.

Protection and Advocacy Juvenile Justice Monitoring Project

OJJDP proposes to support a project to provide independent monitoring in juvenile justice facilities to identify and address dangerous and unsafe conditions of confinement. In addition, this project will generate information to evaluate the effectiveness of an external oversight mechanism to improve conditions of confinement in juvenile justice facilities. The proposed project would focus on conditions and practices affecting any confined youth and specifically those affecting youth with health, physical, sensory, and cognitive or intellectual disabilities and youth with mental health and behavioral health disorders.

Second Chance Act Adult and Juvenile Offender Reentry Demonstration Projects

OJJDP, in collaboration with the Bureau of Justice Assistance, will support additional demonstration projects under the Second Chance Act Youth Offender Reentry Initiative, a comprehensive response to the increasing number of people who are released from prison, jail, and juvenile facilities each year and are returning to their communities. The goal of this initiative is to reduce the rate of recidivism for offenders released from a juvenile residential facility and increase public safety. Demonstration projects provide necessary services to youth while in confinement and following their release into the community. The initiative will focus on addressing the unique needs of girls reentering their communities.

Continuations

In FY 2011, OJJDP will continue to support;

• Juvenile Indigent Defense National Clearinghouse

• National Training and Technical Assistance Center for Youth in Custody

• Juvenile Detention Alternatives Initiative

• The National Girls Institute

Research, Evaluation, and Data Collection

OJJDP supports and promotes research, vigorous and informative evaluations of demonstration programs, and collection and analysis of statistical data. The goal of these activities is to generate credible and useful information to improve decisionmaking in the juvenile justice system. OJJDP sponsors research that has the greatest potential to improve the nation's understanding of juvenile delinquency and victimization and of ways to develop effective prevention and intervention programs to respond to it.

Assessment of Youth Gangs in Juvenile Detention and Correctional Facilities

OJJDP proposes to fund an assessment of the nature and scope of youth gangs in juvenile detention and correctional facilities. OJJDP will use information garnered from this assessment to inform the development of programs, policies, and practice to better serve incarcerated youth and ensure safety and security for detainees and staff in residential facilities.

Child Protection Research Program

OJJDP proposes to fund field-initiated research and evaluation projects on crimes against children and juveniles, primarily on issues of exploitation and abuse. These projects will produce information that will assist Federal, State, and local law enforcement and prosecutors involved with crimes against children cases, policymakers, and professionals who care for and educate children and youth. OJJDP will consider applications proposing research in other areas that will fill a critical gap in the field's knowledge and practice.

Evaluation of Second Chance Act Juvenile Mentoring Initiative

OJJDP expects to conduct a comprehensive process and rigorous impact evaluation of the Second Chance Act Juvenile Mentoring Initiative to determine the effectiveness of combining mentoring with other reentry services for participating juvenile offenders during their confinement, through their transition back to the community, and following release. OJJDP will select a national evaluator to assess the implementation of these programs and their impact on service delivery and key outcomes for participating youth, including recidivism.

Mentoring Research Best Practices Program

OJJDP proposes to fund a program of research that seeks to enhance the understanding of mentoring as a prevention strategy for youth at risk of involvement or already involved in the juvenile justice system. While mentoring appears to be a promising intervention for youth, more evaluation work is needed to further highlight the components of a mentoring program that are most effective and how effective mentoring is as a delinquency prevention/intervention technique.

Youth Gang Research Initiative

OJJDP proposes to fund research on gangs that provides current information on the nature and scope of the gang problem in the United States, examines programs and strategies that communities have implemented to prevent and intervene in gang activity, and identifies emerging trends in gang prevention and intervention programs. Further research and examination is needed to develop a better understanding of the factors that lead to gang involvement, the nature and scope of different types of gangs, and the most effective strategies, programs, and practices to prevent and intervene with gang-involved youth.

Secondary Data Analysis Program

OJJDP intends to make several competitive awards to encourage secondary analysis of one or more of several datasets that the Office has archived to answer research questions that impact policy and practice in juvenile justice. Since the mid-1970s, OJJDP has supported a series of data collection programs to capture accurate and detailed information on youth offenders in residential placement and the facilities that hold them. OJJDP will make these datasets available to researchers.

Field-Initiated Research and Evaluation Program

OJJDP intends to support multiple grant awards for research and evaluations of programs and initiatives that focus on the juvenile justice system's response to delinquency and system improvement. The goal of the research questions posed will be to inform policy and lead to recommendations for juvenile justice system improvement.

National Juvenile Probation Census Project

OJJDP proposes to support the next round of its Census of Juveniles on Probation, which describes youth under justice supervision and the services they receive. The census provides critical data on the characteristics of youth on probation, the nature of their offenses, and how they are served. The significance of such information is evident when one considers that the number of youth on probation is roughly five times that of the population of youth in custody.

Evaluations of Girls' Delinquency Programs

OJJDP intends to support evaluations that will measure the effectiveness of delinquency prevention, intervention, and/or treatment programs to prevent and reduce girls' risk behavior and offending. Over the past two decades, the number of girls entering the juvenile justice system has dramatically increased. This trend raised a number of questions for OJJDP, including whether this reflected an increase in girls' delinquency or changes in society's responses to girls' behavior. OJJDP's Girls Study Group recently completed a review of evaluations of girls' delinquency programs and found that most programs have not been evaluated, thereby limiting knowledge about the most appropriate and effective programs for girls.

Continuations

In FY 2011, OJJDP will continue to support:

• National Juvenile Justice Evaluation Center

• National Juvenile Justice Data Analysis Program

• National Juvenile Justice Data Collection Program

Substance Abuse and Treatment

OJJDP, often in partnership with other Federal agencies and private organizations, develops programs, research, or other initiatives to address juvenile use and abuse of illegal, prescription, and nonprescription drugs and alcohol. OJJDP's substance abuse efforts include control, prevention, and treatment programs.

Best Practices for Juvenile Drug Courts and Adolescent Treatment

OJJDP proposes to fund an initiative in partnership with the Department of Health and Human Services' Center for Substance Abuse Treatment to identify best practices for merging juvenile drug courts and adolescent treatment. This initiative will also develop and implement training for juvenile drug courts on models of adolescent treatment that support the drug court.

Family Drug Court Programs

OJJDP intends to implement and enhance family drug courts that serve substance-abusing adults who are involved in the family dependency court system as a result of child abuse and neglect issues. Grantees must provide services to the children of the parents in the program as well as to the parents. The Center for Children and Family Futures will provide training and technical assistance to family drug courts.

Enforcing Underage Drinking Laws Program

The Enforcing Underage Drinking Laws (EUDL) Program supports states' efforts to reduce drinking by juveniles through its four components: Block grants to the 50 States, the 5 territories, and the District of Columbia; discretionary grants; technical assistance; and research and evaluation. Under the block grant component, each state, the District of Columbia, and the territories receive approximately $360,000 annually to support law enforcement activities, media campaigns, and coalition building. The EUDL discretionary grant component supports several diverse initiatives to help communities develop promising approaches to address underage drinking. EUDL training and technical assistance supports communities and states in their efforts to enforce underage drinking laws. EUDL funds and Federal partnerships also support evaluations of community initiatives within the EUDL discretionary grant component.

Enforcing Underage Drinking Laws Assessment, Strategic Planning, and Implementation Initiative

OJJDP intends to support this discretionary component of the Enforcing Underage Drinking Laws program, in which states will implement an assessment and strategic planning process to develop targeted, effective activities to reduce underage access to and consumption of alcohol. Grantees will assess local conditions and design a long-term strategic plan; implement selected and approved actions of that plan; collect, analyze, and report data; and evaluate how the state responded to the recommendations, crafted its strategic plan, and implemented portions of the plan with the remaining funds.

Continuations

In FY 2011, OJJDP will continue to support:

• Juvenile Drug Court Mentoring Programs

• Juvenile Drug Court Programs

Mentoring

OJJDP supports mentoring programs for youth at risk of failing in school, dropping out of school, or becoming involved in delinquent behavior, including gang activity and substance abuse. The goals of the programs are to reduce juvenile delinquency and gang participation, improve academic performance, and reduce the school dropout rate. Mentoring funds support mentoring programs that provide general guidance and support; promote personal and social responsibility; increase participation in education; support juvenile offenders returning to their communities after confinement in a residential facility; discourage use of illegal drugs and firearms; discourage involvement in gangs, violence, and other delinquent activity; and encourage participation in community service activities. OJJDP will also sponsor several research projects that will evaluate mentoring programs or approaches and the effectiveness of specific mentoring practices.

Mentoring Commercial Child Sexual Exploitation Victim Service Agencies

OJJDP proposes to support the development and enhancement of the mentoring capacity of community organizations that provide direct services to children who are sexually exploited for commercial purposes. Community service programs that build or enhance mentoring programs for these high-risk youth and provide other appropriate support services can empower girls and boys to exit the commercial sex industry and move past their involvement with the justice system and their experiences with victimization. Such programs should be led by a local community collaborative that is designed to address local needs and use local resources.

Mentoring for Youth With Disabilities

OJJDP proposes to fund mentoring programs and strategies that support at-risk youth with disabilities to prevent them from engaging in risky behaviors such as substance abuse and criminal activity. OJJDP anticipates coordinating this initiative with the U.S. Departments of Education and Health and Human Services.

Second Chance Act Juvenile Mentoring Initiative

OJJDP intends to provide grants for mentoring and other transitional services to reintegrate juvenile offenders into their communities. The grants will be used to mentor juvenile offenders during confinement, through transition back to the community, and following release; to provide transitional services to assist them in their reintegration into the community; and to support training in offender and victims issues. The initiative's goals are to reduce recidivism among juvenile ex-offenders, enhance community safety, and enhance the capacity of local partnerships to address the needs of juvenile ex-offenders returning to their communities.

National and Multi-State Mentoring Programs

OJJDP expects to support national organizations and organizations with mentoring programs in at least five states to enhance or expand mentoring services to high-risk populations that are underserved due to location; shortage of mentors; special physical or mental challenges of the targeted population; youth with a parent in the military, including a deployed parent; or other analogous situations that the community in need of mentoring services identifies.

Strategic Enhancement to Mentoring Programs for Comprehensive Delinquency Prevention Strategies

OJJDP proposes to support the enhancement of existing mentoring programs and strategies as part of a comprehensive, integrated strategy for delinquency prevention. The enhancements include involving the parents in activities or services, providing structured activities and programs for the mentoring matches, and developing and implementing ongoing training and support for mentors.

Afterschool Arts Programs for At-Risk Youth

OJJDP proposes to fund afterschool arts programs that respond to the needs of at-risk youth who, research has shown, are at greatest risk of being a victim of a violent act or committing a crime during the afterschool hours of 3 p.m. to 7 p.m. These programs help reduce risk factors that increase the chances a youth will develop behavior problems that may lead to delinquency, crime, and violence.

Continuation

In FY 2011, OJJDP will continue to support:

• Mentoring for Safe Schools/Healthy Students Initiatives

Child Victimization

Since its inception, OJJDP has consistently strived to safeguard children from victimization by supporting research, training, and community programs that emphasize prevention and early intervention. A commitment to children's safety is written into the Office's legislative mandate, which includes the JJDP Act of 1974, the Missing Children's Assistance Act of 1984, and the Victims of Child Abuse Act of 1990. OJJDP continues to improve the responses of the justice system and related systems, increase public awareness, and promote model programs for addressing child victimization in states and communities across the country.

Children's Advocacy Centers

OJJDP intends to continue funding for programs that improve the coordinated investigation and prosecution of child abuse cases. These programs include a national subgrant program for local children's advocacy centers, a membership and accreditation program, regional children's advocacy centers, and specialized technical assistance and training programs for child abuse professionals and prosecutors. Local children's advocacy centers bring together multidisciplinary teams of professionals to coordinate the investigation, treatment, and prosecution of child abuse cases.

Court Appointed Special Advocates Programs

OJJDP intends to continue funding for Court Appointed Special Advocates (CASA) programs that provide children in the foster care system or at risk of entering the dependency system with high-quality, timely, effective, and sensitive representation before the court. CASA programs train and support volunteers who advocate for the best interests of the child in dependency proceedings. OJJDP funds a national CASA training and technical assistance provider and a national membership and accreditation organization to support state and local CASA organizations' efforts to recruit volunteer advocates, including minority volunteers, and to provide training and technical assistance to these organizations and to stakeholders in the child welfare system.

Prevention of Hate Crimes Against Youth

OJJDP proposes to fund a program for individual public and private schools, school consortia, or school systems that would use an evidence-based approach to address youth hate crimes. It will target middle and high school students, teachers, administrators, and school resource officers in those schools. The program will educate students about the harm of prejudice and instill an appreciation of diversity, train teachers and school administrators to identify and respond to incidents of hate crime, and train law enforcement officers (school resource officers) in the investigation and prosecution of incidents of hate crimes involving youth.

Child Exploitation

The increasing number of children and teens using the Internet, the proliferation of child pornography, and the increasing number of sexual predators who use the Internet and other electronic media to prey on children present both a significant threat to the health and safety of young people and a formidable challenge for law enforcement. OJJDP took the lead early on in addressing this problem. More than a decade ago, the Office established the Internet Crimes Against Children Task Force program.

Internet Crimes Against Children Program

OJJDP expects to continue funding to support the operations of the 61 Internet Crimes Against Children (ICAC) task forces. The ICAC Task Force program helps state and local law enforcement agencies develop an effective response to sexual predators who prey upon juveniles via the Internet and other electronic devices and child pornography cases. This program encompasses forensic and investigative components, training and technical assistance, victim services, and community education.

ICAC Commercial Child Sexual Exploitation

OJJDP intends to support select law enforcement agencies in their development of strategies to protect children from commercial sexual exploitation. Grantees will improve training and coordination activities, develop policies and procedures to identify child victims of commercial sexual exploitation, investigate and prosecute cases against adults who sexually exploit children for commercial purposes, and provide essential services to victims, including cases where technology is used to facilitate the exploitation of the victim.

ICAC Deconfliction System

OJJDP proposes to fund an ICAC Deconfliction System (IDS) to allow OJJDP-credentialed users, including Federal, State, local, and tribal agencies and ICAC task forces investigating and prosecuting child exploitation to contribute and access data for use in resolving case conflicts. A governmental agency or a credentialed law enforcement agency will host the system. Also, IDS will permit the real-time analysis of data to facilitate identification of targets and to estimate the size of the law enforcement effort to address these crimes.

In addition, OJJDP intends to support related ICAC activities and programs, including:

• Designing and implementing the 2011 ICAC-Project Safe Childhood National Training Conference.

• Research on Internet and other technology-facilitated crimes against children.

• Training for ICAC officers, prosecutors, judges, and other stakeholders.

• Technical assistance to support implementation of the ICAC program.

Continuation

In FY 2011, OJJDP will continue to support:

• Missing and Exploited Children Training and Technical Assistance Program

Juvenile Justice System Improvement

OJJDP works to improve the effectiveness and efficiency of the juvenile justice system. A major component of these efforts is the provision of training and technical assistance (TTA) resources that address the needs of juvenile justice practitioners and support state and local efforts to build capacity and expand the use of evidence-based practices.

Training and technical assistance is the planning, development, delivery, and evaluation of activities to achieve specific learning objectives, resolve problems, and foster the application of innovative approaches to juvenile delinquency and victimization. OJJDP has developed a network of providers to deliver targeted training and technical assistance to policymakers and practitioners.

National Delinquency Court Improvement Program

OJJDP intends to support a training and technical assistance program to improve the operations of the nation's juvenile delinquency courts. Under this program, OJJDP will produce guidelines to improve delinquency courts and standards for the representation of juveniles in status offense and delinquency cases, promote alternatives to detention and evidence-based programs to prevent and intervene in delinquency, produce guidelines for dealing with youth under the jurisdiction of several systems, and promote adherence to the core principles of the JJDP Act of 1974, as amended.

National Gang Center

OJJDP proposes to fund, in partnership with the Bureau of Justice Assistance, a National Gang Center to provide training and technical assistance to law enforcement agencies and communities on gang prevention and intervention programs and strategies. The National Gang Center will also administer the annual National Youth Gang Survey and disseminate current research and practice on gang prevention, intervention, and suppression strategies and programs.

Model Programs Guide

OJJDP expects to fund a program to maintain and expand the databases that make up OJJDP's Model Programs Guide. The award recipient will actively identify, review, and assess new programs; add new programs that meet the evaluation criteria, their descriptions, and performance indicators; and develop, maintain, and expand subject-specific databases including, but not limited to, the disproportionate minority contact and deinstitutionalization of status offenders best practices databases. Moreover, OJJDP is looking to improve technical capacity, expand and refine the database, and, generally, assure ease, speed, and precision in searching the database.

National Training and Technical Assistance Center for Truancy Prevention and Intervention

OJJDP intends to fund a National Training and Technical Assistance Center for Truancy Prevention and Intervention. The center will disseminate information regarding what works to prevent and intervene with school truancy and dropout problems and promote the use of evidence-based practices through training, technical assistance, and resources.

State Relations and Assistance Division's Training and Technical Assistance Program

OJJDP proposes to award a cooperative agreement to an organization that will provide training and technical assistance to national, state, and local-level grantees and non-grantees. OJJDP expects that this training and technical assistance will assist them in planning, establishing, operating, coordinating, and evaluating delinquency prevention and juvenile justice systems improvement projects. Additionally, the selected organization will coordinate the State Relations and Assistance Division's national training conferences.

Continuations

In FY 2011, OJJDP will continue to support:

• Child Abuse Training for Judicial and Court Personnel

• Engaging Law Enforcement To Reduce Juvenile Crime, Victimization, and Delinquency

• State Advisory Group Training and Technical Assistance Project

Fellowships

OJJDP's fellowship program is designed to enhance the Office's efforts to develop and improve innovative programs that serve children, youth, and families. A secondary goal is to provide practitioners an opportunity to work closely with career and political Federal staff, contractors, grantees, and other public and private organizations in Washington, DC, and across the country. The fellow will provide direct operational assistance to OJJDP staff through assessment and capacity building, design and development of innovative initiatives and training programs, resource development, research and evaluation, policy development, and outreach and awareness. The fellow will also develop articles for publication and other products on specific topics.

Concentration of Federal Efforts Fellowship

OJJDP proposes to fund a fellow in the Concentration of Federal Efforts program for 2 years to strengthen the Office's cross-agency partnership efforts. Currently, OJJDP staff and leadership participate in dozens of interagency efforts. The fellow will build on related ongoing work of other Federal agencies, develop new cross-agency partnerships and initiatives, identify and assess opportunities for cross-agency partnerships, and track the impact of existing partnership efforts.

Visiting Research Fellowship Program

OJJDP proposes funding for a visiting research fellowship to identify evidence-based programs to facilitate the development or enhancement of new and innovative programs. Through the program, fellows will investigate new approaches to address existing problems in juvenile justice in conjunction with OJJDP's ongoing program of research into juvenile justice and delinquency prevention issues.

General

Support for Conferences on Juvenile Justice

OJJDP plans to support conferences that address juvenile justice and the prevention of delinquency. This support would provide community prevention leaders, treatment professionals, juvenile justice officials, researchers, and practitioners with information on best practices and research-based models to support state, local government, and community efforts to prevent juvenile delinquency.

Dated: January 7, 2011.
Jeff Slowikowski,
Acting Administrator, Office of Juvenile Justice and Delinquency Prevention.

[FR Doc. 2011-548 Filed 1-11-11; 8:45 am]

BILLING CODE 4410-18-P